GENERAL SERVICES ADMINISTRATION

41 CFR Part 102-173

[FMR Amendment 2003-1]

RIN 3090-AH41

Federal Management Regulation; Internet GOV Domain

AGENCY: Office of Governmentwide Policy, GSA.

ACTION: Final rule.

SUMMARY: The General Services Administration (GSA) is adding coverage on the Internet GOV Domain to the Federal Management Regulation (FMR). The purpose of this final rule is to provide a new policy for registration of domain names. The FMR is written in plain language to provide updated regulatory material that is easy to read and understand.

DATES: Effective Date: March 28, 2003.

FOR FURTHER INFORMATION CONTACT: The Regulatory Secretariat, Room 4035, GS Building, Washington, DC, 20405, (202) 208-7312, for information pertaining to status or publication schedules. For clarification of content, contact Lee Ellis, Office of Electronic Government and Technology, at (202) 501-0282, lee.ellis@gsa.gov. Please cite FMR Amendment 2003-1.

SUPPLEMENTARY INFORMATION:

A. Background

The purpose of this final rule is to provide a new policy for the Internet GOV Domain that will be included in the FMR. The final rule is written in a plain language question and answer format. This style uses an active voice, shorter sentences, and pronouns. Unless otherwise indicated in the text, the pronoun “we” refers to the General Services Administration (GSA). A question and its answer combine to establish a rule. You must follow the language contained in both the question and its answer.

This final rule establishes FMR part 102-173, Internet GOV Domain, and provides policy for registration of domain names. A proposed rule was published in the Federal Register at 67 FR 34890, May 16, 2002. Public comments were solicited for use in the formulation of the final rule. All comments were consolidated and each one considered through a formal process. Comments received were from private citizens, Federal, State, and local government organizations, information technology standards organizations, and commercial businesses. Particularly worth noting are the comments concerning the cost for dot-gov registration. GSA currently assesses no charge. The rule merely establishes a ceiling for the charges that GSA may assess in the future if circumstances require it. These charges, if established, will be based on the costs of operations and market rates. An earlier regulation was previously located in the Federal Property Management Regulation (FPMR) (41 CFR part 101-35, subpart 101-35.7, Network Address Registration) and expired on August 8, 2001.

Jurisdiction of the Internet GOV (dot-gov) domain was delegated to GSA in 1997 by the Federal Networking Council with guidance in the form of Internet Engineering Task Force Informational RFC 2146. Since then, the U.S. Government use of the Internet has evolved and is rapidly emerging as an electronic government without boundaries. Federal organizations are choosing dot-gov domain names to reflect the type of service being rendered and are collaborating to form portals that cross boundaries of agencies, departments, and other U.S. government entities. GSA reserves the right to make exceptions to the naming conventions described in this subpart on a case-by-case basis in unique and compelling cases.

In addition, there is increasing interest from non-Federal U.S. government entities, such as State and local governments, and Federally recognized Indian tribes, known in this rule as Native Sovereign Nations (NSNs), to provide service within the dot-gov domain. Many such governmental entities believe that their citizens are likely to associate their government at all levels with the dot-gov domain, and therefore, want the additional option of positioning their governmental portal to the public within this space. GSA has entered into an agreement with the Department of the Interior's Bureau of Indian Affairs to facilitate the registration of NSNs in the dot-gov domain.

B. Executive Order 12866

This is a significant rule and was subject to Office of Management and Budget review under section 6(b) of Executive Order 12866, Regulatory Planning and Review, dated September 30, 1993.

C. Regulatory Flexibility Act

We certify that the amendments will not have a significant economic impact on a substantial number of small entities, because the registration and renewal fees, and paperwork collection burden will be small.

D. Paperwork Reduction Act

The Paperwork Reduction Act does not apply because this final rule does not contain any information collection requirements that require the approval of the Office of Management and Budget (OMB) under 44 U.S.C. 3501, et seq.

E. Congressional Review Act

This final rule is not a major rule under 5 U.S.C. 804.

F. Unfunded Mandates Reform Act of 1995

This final rule does not significantly or uniquely affect small governments or tribal governments. It does not result in expenditures by State, local, or tribal governments, or to the private sector, of $100 million or more in any one year.

G. Executive Order 13132 on Federalism

This final rule does not have Federalism implications.

There are no substantial direct effects on the States, on the relationship between the national government and the States, or on the distribution of power and responsibilities among the various levels of government.

List of Subjects in 41 CFR Part 102-173

Archives and records, Computer technology, Federal information processing resources activities, Government procurement, Property management, Records management, Telecommunications.

Dated: March 24, 2003.
Stephen A. Perry,
Administrator of General Services.

For the reasons set forth in the preamble, GSA amends 41 CFR chapter 102 as follows:

CHAPTER 102—[AMENDED]

1. Part 102-173 is added to subchapter F of chapter 102 to read as follows:

PART 102-173—INTERNET GOV DOMAIN

Subpart A—General
Sec.
102-173.5 What is Internet GOV Domain?
102-173.10 What is the authority or jurisdiction of the Internet GOV Domain?
102-173.15 What is the scope of this part?
102-173.20 To whom does this part apply?
102-173.25 What definitions apply to this part?
Subpart B—Registration
102-173.30 Who may register in the dot-gov domain?
102-173.35 Who authorizes domain names?
102-173.40 Who is my Chief Information Officer (CIO)?
102-173.45 Is there a registration charge for domain names?
102-173.50 What is the naming convention for States?
102-173.55 What is the naming convention for Cities and Townships?
102-173.60 What is the naming convention for Counties or Parishes?
102-173.65 What is the naming convention for Native Sovereign Nations?
102-173.70 Where do I register my dot-gov domain name?
102-173.75 How long does the process take?
102-173.80 How will I know if my request is approved?
102-173.85 How long will my application be held, pending approval by the Chief Information Officer (CIO)?
102-173.90 Are there any special restrictions on the use and registration canonical, or category names like recreation.gov?
102-173.95 Are there any restrictions on the use of the dot-gov domain name?

Authority: 40 U.S.C. 486(c).

Subchapter F—Telecommunications

* * * * *

Subpart A—General

§ 102-173.5 What is Internet GOV Domain?

Internet GOV Domain refers to the Internet top-level domain “dot-gov” operated by the General Services Administration for the registration of U.S. government-related domain names. In general, these names reflect the organization names in the Federal Government and non-Federal government entities in the United States. These names are now being used to promote government services and increase the ease of finding these services.

§ 102-173.10 What is the authority or jurisdiction of the Internet GOV Domain?

Jurisdiction of the Internet GOV (dot-gov) domain was delegated to the General Services Administration in 1997 by the Federal Networking Council with guidance in the form of Internet Engineering Task Force (IETF) Informational RFC 2146, which can be obtained on the Internet at: http://www.ietf.org/rfc/rfc2146.txt?number=2146.

§ 102-173.15 What is the scope of this part?

This part addresses the registration of second-level domain names used in the Internet GOV Domain. This registration process assures that the assigned domain names are unique worldwide.

§ 102-173.20 To whom does this part apply?

This part applies to Federal, State, and local governments, and Native Sovereign Nations. You do not need to register domain names with the General Services Administration if you will be using some other top-level domain registration, such as dot-us, dot-org, or dot-net.

§ 102-173.25 What definitions apply to this part?

The following definitions apply to this part:

Domain is a region of jurisdiction on the Internet for naming assignment. The General Services Administration (GSA) is responsible for registrations in the dot-gov domain.

Domain name is a name assigned to an Internet server. This is the name that you request from GSA. Typically, you would apply this name to a domain name server. A domain name locates the organization or other entity on the Internet. The dot gov part of the domain name reflects the purpose of the organization or entity. This part is called the Top-Level Domain name. The Second-Level Domain name to the left of the dot gov maps to a readable version of the Internet address. The Domain Name server has a registry of Internet Protocol (IP) address numbers that relate to the readable text name.

Domain name server is the computer that provides pointers from the domain name to the actual computers.

Dot-gov refers to domain names ending with a “.gov” suffix. The Internet GOV domain is another way of expressing the collection of dot-gov domain names.

Native Sovereign Nations (NSN) are federally recognized tribes.

Subpart B—Registration

§ 102-173.30 Who may register in the dot-gov domain?

Registration in the dot-gov domain is available to official governmental organizations in the United States including Federal, State, and local governments, and Native Sovereign Nations.

§ 102-173.35 Who authorizes domain names?

Domain names must be authorized by the Chief Information Officer (CIO) of the requesting or sponsoring governmental organization. For Federal departments and agencies, the General Services Administration (GSA) will accept authorization from the CIO of the department or agency. For independent Federal government agencies, boards, and commissions, GSA will accept authorization from the highest-ranking Information Technology Official. For State and local governments, GSA will accept authorization from appropriate State or local officials, see § 102-173.40.

For Native Sovereign Nations, GSA will only accept authorization from the Bureau of Indian Affairs, Department of the Interior. In most cases, GSA will not make determinations on the appropriateness of the selected domain names, but reserves the right to not assign domain names on a case-by-case basis. Non-Federal government domain names must follow the naming conventions described in §§ 102-173.50 through 102-173.65. For other government entities, CIO's may delegate this authority by notification to GSA.

§ 102-173.40 Who is my Chief Information Officer (CIO)?

Your Chief Information Officer (CIO) may vary according to the branch of government. For the Federal Government, the General Services Administration (GSA) recognizes the cabinet level CIOs listed at http://www.cio.gov. For States, GSA will accept authorization from the Office of the Governor or highest-ranking Information Technology (IT) official. Other officials include the Mayor (for city or town), County Commissioner (for counties) or highest ranking IT official. Native Sovereign Nations (NSN) must receive authorization from the Bureau of Indian Affairs. CIOs may delegate this authority by notification to GSA.

§ 102-173.45 Is there a registration charge for domain names?

The General Services Administration (GSA) reserves the right to charge for domain names in order to recover cost of operations. For current registration charges, please visit the GSA Web site at http://www.nic.gov. GSA does not currently charge a fee. GSA has the authority to employ a system of collection that includes a one-time setup fee for new registrations, which will not exceed $1000, depending on the level of assistance that may be provided by GSA, and a recurring annual charge that will not exceed $500 for all dot-gov domains. The fees are based on anticipated costs for operating the registration service.

§ 102-173.50 What is the naming convention for States?

(a) To register any second-level domain within dot-gov, State government entities must register the full State name or clearly indicate the State postal code within the name. Examples of acceptable names include virginia.gov, tennesseeanytime.gov, wa.gov, nmparks.gov, mysc.gov, emaryland.gov, and ne-taxes.gov. However—

(1) Use of the State postal code should not be embedded within a single word in a way that obscures the postal code. For example, Indiana (IN) should not register for win.gov, or independence.gov; and

(2) Where potential conflicts arise between postal codes and existing domain names, States are encouraged to register URL's that contain the full State name.

(b) There is no limit to the number of domain names for which a State may register.

(c) States are encouraged to make second-level domains available for third-level registration by local governments and State Government departments and programs. For example, the State of North Carolina could register NC.GOV as a second-level domain and develop a system of registration for their local governments. The State would be free to develop policy on how the local government should be registered under NC.GOV. One possibility might be to spell out the city, thus Raleigh.NC.gov could be a resulting domain name.

§ 102-173.55 What is the naming convention for Cities and Townships?

(a) To register any second-level domain within dot-gov, City (town) governments must register the domain name with the city (town) name or abbreviation, and clear reference to the State in which the city (town) is located. However—

(1) Use of the State postal code should not be embedded within a single word in a way that obscures the postal code; and

(2) Inclusion of the word city or town within the domain name is optional and may be used at the discretion of the local government.

(b)(1) The preferred format for city governments is to denote the State postal code after the city name, optionally separated by a dash. Examples of preferred domain names include—

(i) Chicago-il.gov;

(ii) Cityofcharleston-sc.gov;

(iii) Charleston-wv.gov;

(iv) Townofdumfries-va.gov; and

(v) Detroitmi.gov.

(2) GSA reserves the right to make exceptions to the naming conventions described in this subpart on a case-by-case basis in unique and compelling cases.

(c) If third-level domain naming is used, GSA reserves the right to offer exceptions to the third-level domain naming conventions described in this section on a case-by-case basis in unique and compelling cases.

§ 102-173.60 What is the naming convention for Counties or Parishes?

(a) To register any second-level domain within dot-gov, County or Parish governments must register the County's or Parish's name or abbreviation, the word “county” or “parish” (because many counties have the same name as cities within the same State), and a reference to the State in which the county or parish is located. However, the use of the State postal code should not be embedded within a single word in a way that obscures the postal code.

(b) The preferred format for county or parish governments is to denote the State postal code after the county or parish, optionally separated by a dash. Examples of preferred domain names include—

(1) Richmondcounty-ga.gov;

(2) Pwc-county-va.gov; and

(3) Countyofdorchestor-sc.gov.

(c) If third-level domain naming is available from the State government, counties or parishes are encouraged to register for a domain name under a State's registered second-level (e.g., richmondcounty.ga.gov).

§ 102-173.65 What is the naming convention for Native Sovereign Nations?

To register any second-level domain in dot-gov, Native Sovereign Nations (NSN) may register any second-level domain name provided that it contains the registering NSN name followed by a suffix of “-NSN.gov” (case insensitive).

§ 102-173.70 Where do I register my dot-gov domain name?

Registration is an online process at the General Services Administration's Web site at http://www.nic.gov. At the Network Information Site, you will find the instructions and online registration forms for registering your domain name. To register your domain name you will need to provide information such as your desired domain name, sponsoring organization, points of contact, and at least two name server addresses.

§ 102-173.75 How long does the process take?

The process can be completed within 48 hours if all information received is complete and accurate. Most requests take up to thirty (30) days because the registrar is waiting for Chief Information Officer (CIO) approval.

§ 102-173.80 How will I know if my request is approved?

A registration confirmation notice is sent within one business day after you register your domain name, informing you that your registration information was received. If all of your information is accurate and complete, a second notice will be sent to you within one business day, informing you that all of your information is in order. If you are ineligible, or if the information provided is incorrect or incomplete, your registration will be rejected and a notice will be sent to you stating the reason for rejection. Registration requests will be activated within two business days after receiving valid authorization from the appropriate Chief Information Officer (CIO). Once your domain name has been activated, a notice will be sent to you.

§ 102-173.85 How long will my application be held, pending approval by the Chief Information Officer (CIO)?

Registrations will be held in reserve status for sixty (60) days pending Chief Information Officer (CIO) authorization from your sponsoring organization.

§ 102-173.90 Are there any special restrictions on the use and registration of canonical, or category names like recreation.gov?

Yes, canonical names registration request must provide access coverage for the areas conveyed by the name. So the URL recreation.gov would not be approved for the state of Maryland, but the URL recreationMD.gov would be approved if it provides statewide coverage. The logic of the names adds value to the dot gov domain. GSA reserves the right deny use of canonical names that do not provide appropriate coverage and to arbitrate these issues.

§ 102-173.95 Are there any restrictions on the use of the dot-gov domain name?

The General Services Administration approves domain names for a specific term of time, generally two years unless otherwise stated, and under conditions of use. General conditions of registration and are posted at the registration Web site at http://www.nic.gov and may be modified over time. Organizations that operate web sites that are not in compliance with the conditions of use may have their domain name terminated.

[FR Doc. 03-7413 Filed 3-27-03; 8:45 am]

BILLING CODE 6820-14-P